DEPARTMENT OF THE INTERIOR

Bureau of Land Management

[CO-154-1610-DP-GGCA]

Notice of Availability of a Draft Resource Management Plan and Environmental Impact Statement for the Gunnison Gorge National Conservation Area

AGENCY: Bureau of Land Management, Interior.

ACTION: Notice of availability of Draft Resource Management Plan and Environmental Impact Statement (DRMP/EIS) for the Gunnison Gorge National Conservation Area (NCA).

SUMMARY: In accordance with section 202 of the National Environmental Policy Act (NEPA) of 1969, and under authority of the Federal Land Policy and Management Act of 1976 (FLPMA), a Draft RMP/EIS has been prepared for the Gunnison Gorge National Conservation Area. The planning area lies in Montrose and Delta Counties, Colorado. The DRMP/EIS provides direction and guidance for the management of public lands and resources of the NCA, as well as monitoring and evaluation requirements. The RMP will also amend the Uncompahgre RMP (1989) for the affected lands in the planning area. Some decisions in the existing planning and management documents may be carried forward into the new NCA RMP. Once approved in a Record of Decision (ROD), the RMP for the NCA will supercede all existing management plans for the public lands within the NCA. The DRMP/EIS evaluates the Current Management Alternative, the Agency Preferred Alternative, and two other alternative management approaches. Tetra Tech, Inc., an environmental consulting firm in Boulder, Colorado, is assisting the BLM in the preparation of these documents and in the planning process for the NCA.

DATES: Written comments on the DRMP/EIS will be accepted for 90 days following the date the Environmental Protection Agency (EPA) publishes this Notice of Availability in the Federal Register. Future public meetings and any other public involvement activities will be announced at least 15 days in advance through public notices, media news releases, the project Web site at http://www.gunnison-gorge-eis.com, and/or mailings.

ADDRESSES: Written comments should be sent to Angie Nelson, Tetra Tech, Inc., 3775 Iris Avenue, Suite #4, Boulder, Colorado, 80301. Comments also may be sent by e-mail to Angie Nelson at angie.nelson@tetratech.com. Written comments, including names and addresses of respondents, will be available for public review at either the office of Tetra Tech in Boulder (address above) or at the offices of the Gunnison Gorge National Conservation Area, 2465 South Townsend Avenue, Montrose, Colorado, 81401 during normal working hours (7:45 a.m. to 4:30 p.m., except holidays). Responses to the comments will be published as part of the Proposed Resource Management Plan/Final Environmental Impact Statement. Individuals may request confidentiality. If you wish to withhold your name or address from public review or from disclosure under the Freedom of Information Act, you must state this prominently at the beginning of your comment. Such requests will be honored to the extent allowed by law. All submissions from organizations or businesses will be made available for public inspection in their entirety.

Copies of the DRMP/EIS are available at the Gunnison Gorge National Conservation Area office and at the office of Tetra Tech, Inc. in Boulder at the addresses above. Copies are also available at the following libraries:

Montrose Public Library, 320 South 2nd Street, Montrose, CO 81401.

Delta Public Library, 211 West 6th Street, Delta, CO 81416.

Crawford Public Library, 425 Highway 92, Crawford, CO 81415.

Hotchkiss Public Library, 1st and Main Street, Hotchkiss, CO 81419.

The planning documents and direct supporting record for the analysis for the DRMP/EIS will be available for inspection at the offices of Tetra Tech, Inc. in Boulder or at the NCA offices during normal working hours. The DRMP/EIS and other associated documents or background information may be viewed and downloaded in PDF format at the project Web site at http://www.gunnison-gorge-eis.com.

FOR FURTHER INFORMATION CONTACT: For further information and/or to have your name added to our mailing list, contact Bill Bottomly (970) 240-5337, Planning and Environmental Coordinator (bill_bottomly@co.blm.gov), or Karen Tucker at (970) 240-5309 (karen_tucker@co.blm.gov), Gunnison Gorge NCA Manager, Bureau of Land Management, Gunnison Gorge National Conservation Area, 2465 South Townsend Avenue, Montrose, CO 81401.

SUPPLEMENTARY INFORMATION: The Black Canyon of the Gunnison National Park and Gunnison Gorge National Conservation Act of 1999 designated the Gunnison Gorge NCA and Wilderness within the NCA. The BLM Uncompahgre Field Office (UFO) in Montrose, Colorado, manages these lands. The 1999 Act directs the BLM to develop “a comprehensive plan for the long-range protection and management of the Conservation Area”.

The planning area addressed in the RMP contains 55,745 acres of public surface estate within the NCA and Wilderness, 39,888 acres of other BLM managed lands, 666 acres at Sweitzer Lake State Park, and 99,890 acres of private lands. The Gunnison Gorge Wilderness within the NCA contains 17,700 acres. While the RMP only applies to federal lands, state and private lands are included because these lands are interspersed with the BLM managed lands and could be impacted by BLM management actions. Lands managed by BLM immediately adjacent to the NCA and Wilderness are included within the planning area boundary.

The DRMP/EIS contains four alternatives: Alternative A (Continuation of Current Management); Alternative B (Conservation), Alternative C (Mixed use), and Alternative D (Agency Preferred Alternative). The Planning Themes and associated issues addressed in the process of formulating alternatives include the following: 1. Preservation of natural and wilderness resources of the NCA and Wilderness, promoting conservation of fish and wildlife, including special status species; 2. Management of human activities and uses; 3. Integration of NCA management with other agency and community plans; 4. Determination of facilities and infrastructure needed to provide visitor services and administration of the NCA; 5. Management of transportation and access; and 6. Consideration of private property in the planning area. Some of the issues that have been identified in the scoping process phase of the NCA planning process include: motorized and non-motorized vehicle use, livestock grazing management, allocation of commercial and private river and upland recreation use, river-related resource management, water quantity and quality, land health, riparian and aquatic habitat protection, threatened and endangered and special status species and critical habitat protection, wildlife habitat quality and fragmentation, declining biodiversity, reintroduction of native species, and noxious weed control. Other factors considered include recreation and resource use, protection of wilderness, riparian, and scenic values, the level and intensity of dispersed and developed recreation management, cultural resource protection and interpretation, management of the mineral estate on adjacent areas not withdrawn from mineral entry and location, public access, transportation and utility corridors, and woodland product harvest.

The public collaboration program implemented for this effort included the distribution of a newsletter, three public open houses, and a public collaboration focus group. During this process, sixteen Planning Criteria were developed and reviewed by the public. The Planning Criteria provide the planning team guidance, help set the parameters and sideboards for analysis during the planning process, and help ensure important considerations of concern to the public are addressed. The Planning Criteria include laws, regulations, policy, and other guidance. The complete list of the Planning Criteria can be found on the project Web site at http://www.gunnison-gorge-eis.com. In addition to the 16 Planning Criteria, The Black Canyon of the Gunnison National Park and Gunnison Gorge National Conservation Area Act of 1999 (Pub. L. 106-76, October 21, 1999), the Wilderness Act, public land health standards, as well as other requirements to maintain scenic values, recreational values and meet public recreation demands are additional criteria applied during the process.

The DRMP/EIS recommends the retention of an existing Area of Critical Environmental Concern (ACEC) and the designation of new ACECs in the various alternatives. Under all alternatives, the effects of retaining and/or recommending designations of ACECs regarding restrictions in surface disturbing activities will occur only to the degree necessary to prevent damage and disturbance to the features and resources for which the area was designated. ACEC recommendations are as follows:

In Alternative A (Continuation of Current Management): The existing designation of the 161-acre Fairview Research Natural Area/Area of Critical Environmental Concern (RNA/ACEC) is retained.

In Alternative B (Conservation): (1) The existing designation of the 161-acres Fairview Research Natural Area/Area of Critical Environmental Concern (RNA/ACEC) is retained; (2) The Gunnison Sage Grouse Important Bird Area/ACEC (IBA/ACEC-16,531 acres outside the NCA boundary) is recommended for designation. The nomination was made by the public collaboration group. The lands are currently being managed according to the existing Gunnison Sage Grouse Conservation Plan, Crawford Area, Colorado; (3) Mancos Shale ACEC/Research Natural Area (19,797 acres inside NCA) is recommended for designation by USGS and BLM; (4) Relic Tree ACEC/Outstanding Natural Area (387 acres inside the NCA) is nominated for designation by a public collaboration group and former Management Framework Plan; (5) Native Plant Community ACEC/Outstanding Natural Area (4,577 acres inside NCA) is nominated for designation by The Nature Conservancy, and (6) Gunnison and North Fork Rivers ACEC, 2,702 acres outside the NCA, nominated by the focus group and BLM.

In Alternative C (Mixed Use): The existing designation of the 161-acre Fairview Research Natural Area/Area of Critical Environmental Concern (RNA/ACEC) is retained.

In Alternative D (Agency Preferred Alternative): (1) The existing designation of the 161-acre Fairview Research Natural Area/Area of Critical Environmental Concern (RNA/ACEC) is retained; (2) The Gunnison Sage Grouse Important Bird Area/ACEC (IBA/ACEC—16,531 acres outside the NCA boundary and 5,669 acres inside the NCA boundary for 22,200 acres total) would be recommended for designation. The same values and features as described in Alternative B are contained in the area; and, (3) Native Plant Community ACEC/ACEC/Outstanding Natural Area (3,785 acres inside NCA) is nominated for designation by The Nature Conservancy.

Dated: December 19, 2002.
Allan J. Belt,
Manager, Uncompahgre Field Office.

[FR Doc. 03-5889 Filed 3-13-03; 8:45 am]

BILLING CODE 4310-JB-P